SECURITIES AND EXCHANGE COMMISSION

[Investment Company Act Release No. 29794; File No. 812-13855]

Curian Series Trust and Curian Capital, LLC; Notice of Application

September 19, 2011.

Correction

In notice document 2011-24590 appearing on pages 59455-59456 in the issue of September 26, 2011, make the following correction:

On page 59455, in the first column, the date, which was inadvertently omitted from the document heading, is added to read as set forth above.

[FR Doc. C1-2011-24590 Filed 10-17-11; 8:45 am]

BILLING CODE 1505-01-D